DEPARTMENT OF COMMERCE

National Oceanic and Atmospheric Administration

[I.D. 042804A]

Endangered Species; File No. 1245

AGENCY: National Marine Fisheries Service (NMFS), National Oceanic and Atmospheric Administration (NOAA), Commerce.

ACTION: Issuance of permit modification.

SUMMARY: Notice is hereby given that J. David Whitaker, South Carolina Department of Natural Resources, P.O. Box 12559, Charleston, South Carolina 29422-2559, has been issued a modification to scientific research Permit No. 1245.

ADDRESSES: The modification and related documents are available for review upon written request or by appointment in the following office(s):

Permits, Conservation and Education Division, Office of Protected Resources, NMFS, 1315 East-West Highway, Room 13705, Silver Spring, MD 20910; phone (301)713-2289; fax (301)713-0376; and,

Southeast Region, NMFS, 9721 Executive Center Drive North, St. Petersburg, FL 33702-2432; phone (727)570-5301; fax (727)570-5320.

FOR FURTHER INFORMATION CONTACT: Jennifer Jefferies or Carrie Hubard, (301)713-2289.

SUPPLEMENTARY INFORMATION: On November 13, 2003, notice was published in the Federal Register (68 FR 64320) that modification of Permit No. 1245, issued May 19, 2000 (65 FR 36666), had been requested by the above-named individual. The requested modification has been granted under the authority of the Endangered Species Act of 1973, as amended (ESA; 16 U.S.C. 1531 et seq.) and the regulations governing the taking, importing, and exporting of endangered and threatened species (50 CFR 222-226).

Permit No. 1245 authorizes the permit holder to capture, handle, flipper and PIT tag, blood and tissue sample, perform ultrasound and release 350 loggerhead (Caretta caretta), 50 Kemp's ridley (Lepidochelys kempii), 10 green (Chelonia mydas), 5 hawksbill (Eretmochelys imbricata) and 3 leatherback (Dermochelys coriacea) turtles along the Southeast United States coastline. The modification will authorize the researchers to satellite tag 9 loggerhead turtles and acoustic tag 24 loggerhead turtles in order to begin to determine feeding site fidelity and migratory patterns of juvenile loggerhead sea turtles along the South Carolina coastline. This modification will be authorized for the duration of the Permit which expires on October 31, 2005.

Issuance of this modification, as required by the ESA was based on a finding that such permit (1) was applied for in good faith, (2) will not operate to the disadvantage of the endangered species which is the subject of this permit, and (3) is consistent with the purposes and policies set forth in section 2 of the ESA.

Dated: May 6, 2004.
Stephen L. Leathery,
Chief, Permits, Conservation and Education Division, Office of Protected Resources, National Marine Fisheries Service.

[FR Doc. 04-10786 Filed 5-11-04; 8:45 am]

BILLING CODE 3510-22-S